DEPARTMENT OF HEALTH AND HUMAN SERVICES

Announcement of Availability of Funds for Family Planning Male Training Grant

AGENCY: Department of Health and Human Services, Office of the Secretary.

ACTION: Notice.

SUMMARY: The Office of Family Planning (OFP) of the Office of Population Affairs (OPA) announces the availability of funds for one grant to establish a training project that focuses on family planning and reproductive health information, education, and clinical services targeting males. The successful applicant will provide training that will enhance and support quality services for males served in Title X family planning services projects throughout the United States.

CFDA Number: 93.260.

DATES: To receive consideration, applications must be received by the Office of Public Health and Science (OPHS) Grants Management Office no later than June 4, 2004 and within the time frames specified in this announcement for electronically submitted, mailed, and/or hand-carried applications.

Executive Order 132372 comment due date: June 4, 2004.

ADDRESSES: Mailed applications must be submitted to Ms. Karen Campbell, Director, Grants Management Office, Office of Public Health and Science, Department of Health and Human Services, 1101 Wootton Parkway, Suite 550, Rockville, MD 20852.

FOR FURTHER INFORMATION CONTACT: Questions regarding program requirements may be directed to Susan B. Moskosky, Director, Office of Family Planning, OPA, (301) 594-4008. Questions regarding administrative or budgetary requirements may be directed to Karen Campbell, Director, OPHS Grants Management Office, (301) 594-0758.

SUPPLEMENTARY INFORMATION:

I. Funding Opportunity Description

This announcement seeks proposals from public and nonprofit private entities to establish and operate a training project with a specific focus on family planning and reproductive health information, education, and clinical services targeting males. The grantee will be required to provide training that will enhance and support quality information, education, communication, and clinical services for males served in Title X-funded agencies throughout the United States.

Background

The family planning program, authorized by section 1001 of Title X is required to provide family planning services, including information, education, and counseling, to all persons desiring such services. Over the past 30 years, males have comprised only two to four percent of clients served by the Title X family planning clinical service delivery system annually.

Since the mid-1990s, the Office of Family Planning (OFP) in the Office of Population Affairs (OPA) has focused efforts on enhancing services available to males. The recent interest in encouraging male involvement in family planning and reproductive health is driven by the current epidemic of sexually transmitted diseases (STDs), including HIV/AIDS, and high rates of unintended pregnancies, as well as by shifts in public health policies. Fighting the fatherless epidemic, promoting responsible fatherhood, and supporting healthy marriages are major public health concerns. Similarly, recognition of the health, education, and psychosocial consequences of early sexual activity has led to an increased focus on extra-marital abstinence. Involving males in family planning and reproductive health issues is one way to encourage and support positive health outcomes and healthy families.

Males have sexual and reproductive health needs across the life span. Accurate information regarding the physical and emotional changes that occur during adolescence and young adulthood should be available. Programs serving young males should also provide information and education that supports avoiding health risks such as smoking, substance abuse, and premature sexual activity. Delaying sexual debut until after adolescence, and preferably until marriage, should be encouraged. For sexually active young males, information and appropriate clinical services and referrals should be available to address health concerns such as STDs, HIV/AIDS, unintended pregnancy, and the emotional stress of interpersonal and intimate relationships.

Among middle-aged and older males, health concerns around sexual and reproductive health continue, though the concerns may include additional issues beyond those of younger males. Examples include general health issues, such as hypertension or diabetes, which may impact reproductive health.

The family planning and reproductive health issues facing males are complicated by the different attitudes and expectations that men and women have toward health care. Even when men visit a health care provider, they are more reluctant than women to bring problems of a reproductive or sexual nature to their clinician's attention. Many clinical settings are not “male-friendly.” Involving men in their own care requires a different approach from that which has been successful with women.

Male reproductive health is an emerging field. Current and future research will add significantly to the body of knowledge related to serving males. Emerging research related to male reproductive health should provide evidence-based information that will enable providers to develop effective male reproductive health educational and clinical service programs. This emerging body of knowledge should also provide the basis for training content and approach. The grantee funded under this announcement must be able to incorporate current, evidence-based information as it becomes available in all phases of training design, delivery, and evaluation.

Purpose of the Grant

The purpose of the training program to be funded under this announcement is to ensure that personnel working in Title X family planning services projects have the knowledge, skills, and abilities necessary to effectively provide family planning and reproductive health information, education, and clinical services targeting males. The successful applicant will use evidence-based information and approaches in all aspects of training. The Male training grantee will be required to maintain knowledge of the most current research regarding male family planning and reproductive health issues, and will act as a resource on male reproductive health issues to other entities involved in family planning service delivery.

Program Statutes and Regulations

Title X of the PHS Act, 42 U.S.C. 300, et.seq., authorizes grants for projects to provide family planning services to persons from low-income families and others. Section 1001 of the Act, as amended authorizes grants “to assist in the establishment and operation of voluntary family planning projects which shall offer a broad range of acceptable and effective family planning methods and services (including natural family planning methods, infertility services, and services for adolescents).” Section 1003 of the Act, as amended, authorizes the Secretary of Health and Human Services to award grants to entities to provide training for personnel to carry out family planning service programs. Section 1008 of the Act, as amended, stipulates that “none of the funds appropriated under this title shall be used in programs where abortion is a method of family planning.”

The regulations set out at 42 CFR part 59, subpart C, govern grants to provide training for family planning service personnel. Prospective applicants should refer to the regulations in their entirety. Training provided must be in accordance with the requirements regarding the provision of family planning services under Title X. These requirements can be found in the Title X statute and the implementing regulations which govern project grants for family planning services (42 CFR part 59, subpart A). Copies of the Title X statute, regulations and “Program Guidelines for Project Grants for Family Planning Services” (January 2001) can be obtained by contacting the OPHS Grants Management Office or may be downloaded from the OPA Web site at http://opa.osophs.dhhs.gov.

A copy of the legislation and regulations governing this program will be included as part of the application kit package. Applicants should use the legislation, regulations, and other information included in this announcement to guide them in developing their applications.

II. Award Information

OPA intends to make available approximately $400,000-$500,000 per year to support one male training grantee. The grant will be funded in annual increments (budget periods) and may be approved for a project period of up to five years. Indirect costs may not exceed eight percent of the annual award. Funding for all budget periods beyond the first year of the grant is contingent upon the availability of funds, satisfactory progress on the project, and adequate stewardship of Federal funds.

III. Eligibility Information

1. Eligible Applicants: Any public or nonprofit private entity located in a State (which includes one of the 50 United States, the District of Columbia, Commonwealth of Puerto Rico, U.S. Virgin Islands, Commonwealth of the Northern Mariana Islands, American Samoa, Guam, Republic of Palau, Federal States of Micronesia, and the Republic of the Marshall Islands) is eligible to apply for a grant under this announcement. Faith-based organizations are eligible to apply for this Title X family planning male training grant.

2. Cost Sharing or Matching: A match of non-Federal funds is not required.

3. Other: Applicant organizations must demonstrate significant experience in the design, development, implementation, successful completion, and evaluation of training activities. In addition, the successful applicant must demonstrate skill and experience in providing training to diverse, community-based entities. The successful applicant will provide evidence of familiarity with male family planning and reproductive health issues, and the ability to translate evidence-based information into training activities.

Awards will be made only to those organizations or agencies which have met all applicable requirements and which demonstrate the capability or providing the proposed services.

IV. Application and Submission Information

1. Address to Request Application Package: Application kits may be requested from, and applications submitted to: OPHS Grants Management Office, 1001 Wootton Parkway, Suite 550, Rockville, MD 20852, (301) 594-0758. Application kits are also available online through the OPA Web site at http://opa.osophs.dhhs.gov, may be requested by fax at (301) 594-9399, or may be obtained through the electronic grants management system, e-Grants. (Instructions for use of the e-Grants system can be found on the OPA Web site or requested from the OPHS Grants Management Office).

2. Content and Form of Application Submission: Applications must be submitted on the Form OPHS-1 (Revised 06/01) and in the manner prescribed in the application kit. Applications are limited to 50 double-spaced pages, not including appendices and required forms, using an easily readable, 12 point font. All pages, charts, figures, and tables should be numbered. Appendices may provide curriculum vitae, organizational structure, examples of organizational capabilities, or other supplemental information that supports the application. All information that is critical to the proposed project should be included in the body of the application. Appendices are for supportive information only and should be clearly labeled.

Applications must include a one-page abstract of the proposed project. The abstract will be used to provide reviewers with an overview of the application, and will form the basis for the application summary in grants management documents.

Dun and Bradstreet Universal Numbering System (DUNS)

A Dun and Bradstreet Universal Numbering System (DUNS) number is required for all applications for Federal assistance. Organizations should verify that they have a DUNS number or take the steps needed to obtain one. Instructions for obtaining a DUNS number are included in the application package, and may be downloaded from the OPA Web site.

Program Requirements/Application Content

The male training grantee will be responsible for maintaining current, evidence-based information regarding male issues and family planning and reproductive health information, education, and clinical services for males, and for making this information available to Title X providers. The application should demonstrate knowledge of evidence-based learning theory and adult learning behavior, and should describe how this relates to proposed activities. The application should also demonstrate the applicant's expertise and ability to develop, implement, manage, and evaluate training in the areas of information, education, and communication; program management; and clinical services related to male family planning and reproductive health. The design of the male training program, including all curricula and materials, must be consistent with Title X statute and regulations.

Legislative Mandates

The following legislative mandates have been part of the Title X appropriations for each of the last several years. In developing a proposal, each applicant should describe how the proposed project will address each of these legislative mandates in training related to male family planning and reproductive health.

• None of the funds appropriated in this Act may be made available to any entity under Title X of the Public Health Service Act unless the applicant for the award certifies to the Secretary that it encourages family participation in the decision of minors to seek family planning services and that it provides counseling to minors on how to resist attempts to coerce minors into engaging in sexual activities; and

• Not withstanding any other provision of law, no provider of services under Title X of the Public Health Service Act shall be exempt from any State law requiring notification or the reporting of child abuse, child molestation, sexual abuse, rape, or incest.

Scope of the Project

The family planning male training grant is intended to serve a national network of providers. In order to maximize the impact of the grant on a national level, it is expected that the successful applicant will work closely with the OFP Central and Regional Offices and the ten Title X Regional Training Centers (RTCs). Proposed activities should focus on:

(1) Conducting training events that focus on family planning and reproductive health information, education, and clinical services targeting males, and that will enhance and support quality family planning and reproductive health services for males;

(2) developing strategies to translate research on male health education and service delivery (especially related to family planning and reproductive health) into effective educational and clinical practice through training;

(3) developing and disseminating training materials and resources related to male family planning and reproductive health;

(4) supporting appropriate speakers at Title X-approved training events for personnel; and

(5) building the capacity of the RTCs to provide male-focused training for personnel working in Title X service projects.

The proposed project must include all of the activities in each of the program components that follows: (1) program planning and management; (2) training events; and (3) maintaining, adapting, and disseminating information. The application should fully describe how each of these should be addressed.

Program Planning and Management

• Conduct a periodic assessment (at least every two years) of the training needs of Title X providers regarding male family planning and reproductive health issues.

• Incorporate legislative mandates into training activities as they relate to family planning and reproductive health information, education, and clinical services for males.

• Maintain data and provide OPA with an annual progress report on all activities supported with grant funds, which includes, at a minimum:

a. Title of event

b. Location

c. Content

d. Presenter (as applicable)

e. Number of participants

f. Agencies sponsoring participants

• Provide for an ongoing evaluation plan that assesses the total training program, as well as individual components and training events.

Training Events

The grantee is expected to consult with the OFP project officer and receive prior approval for each of the following training events prior to implementation:

• Provide support for one male family planning training meeting per year. This includes meeting costs (meeting planning, dissemination of meeting information, registration of participants, hotel/meeting space rental, meeting materials, etc) for approximately 150 attendees.

• Provide for at least one one-week on-site training activity each year for up to 40 persons each, including meeting costs (meeting planning, hotel/meeting space rental, meeting materials, etc.) lodging, and per diem (excluding travel) for participants.

• Each year, provide support for speaker participation in Title X-sponsored training events with the approval of the OFP project officer. (This includes travel, lodging, and per diem and consultant fees for up to 10 speakers per year at a total cost not the exceed $2,000 per speaker.)

• In consultation with and prior approval of the OFP project officer, convene up to three expert panels per year around specific male family planning and reproductive health topic areas. Responsibilities include meeting costs (meeting planning, hotel/meeting space rental, meeting materials, etc.) lodging, per diem, and travel-related expenses for non-Federal participants. Each panel will include up to 15 participants, not including any Federal staff.

• Assist Title X Regional Training Centers in developing content around male issues for Regional training events.

Maintaining, Adapting, and Disseminating Information

The successful applicant will describe a strategy for assuring the availability of the most current research findings related to male family planning and reproductive health information, education, and clinical service delivery. In addition, the successful applicant will describe a system for making this information readily accessible and easily retrievable for Title X service grantees and personnel. At a minimum, this will include how the applicant will achieve the following:

• Maintain a system for ongoing retrieval and dissemination of current, evidence-based information and research findings related to male family planning and reproductive health.

• Identify and/or develop evidence-based training resources regarding family planning and reproductive health issues for males. These materials must be made available at cost to other Title X projects upon request.

• In consultation with OFP project officer, adapt and/or refine male health educational resources for use in training personnel working in Title X family planning services projects.

• Describe a strategy for assuring that all training resources developed or utilized by the grantee are reviewed by the OFP project officer prior to dissemination.

The grantee will be responsible for all costs associated with training program administration and management, and for training costs directly associated with any on-site portion of Title X-sponsored trainee preparation (e.g., educational materials, classroom and training sites, etc.) as described above. The grantee will also be required to work closely with the OFP project officer to accomplish the purposes of this grant. The successful application will describe a strategy for maintaining budget flexibility in order to accommodate unanticipated or emerging training needs. The successful applicant will be required to participate in at least two meetings per year with the OFP project officer and other OPA staff at the OPA Office in Rockville, Maryland, or at an alternate location as specified. In addition, the grantee should be prepared to participate in at least one conference call per month with the OFP project officer and others as necessary.

In responding to this announcement, applicants should familiarize themselves with:

• Title X Priorities, Legislative Mandates, and Key Issues;

• Department of Health and Human Services Departmental Priorities;

• Healthy People 2010—Chapter 9, “Family Planning;” Chapter 11, “Health Communications;” Chapter 13, “Sexually Transmitted Disease; “ Chapter 25, “HIV;'

• The document “Community-Based Sexual and Reproductive Health Promotion;” and

• “Education Programs for Males: Components that Work.”

Copies of these documents are included in the application kit for this announcement.

3. Submission Dates and Times: The OFP provides multiple mechanisms for submission of applications.

Electronic Submission: The OFP encourages electronic submission of grant applications using the OPHS e-Grants system. Instructions for use of this system are available on the OPA Web site, http://opa.osophs.dhhs.gov, or may be requested from the OPHS Grants Management Office at (301) 594-0758.

The body of the application and required forms can be submitted using the e-Grants system. In addition to electronically submitted materials, applicants are required to provide a hard copy of the application face page (Standard Form 424 [Revised 07/03]) with the original signature of an individual authorized to act for the applicant agency or organization and to assume for the organization the obligations imposed by the terms and conditions of the grant award. The application is not considered complete until both the electronic application and the hard copy face page with original signature are received. Both must be received on or before the due date listed in the DATES section of this announcement.

Hard Copy Applications

Applications submitted in hard copy must include an original and two copies of the application. The original application must be signed by an individual authorized to act for the applicant agency or organization and to assume for the organization the obligations imposed by the terms and conditions of the grant award.

Mailed applications will be considered as meeting the deadline if they are received by the OPHS Office of Grants Management on or before the deadline listed in the DATES section of this announcement. The application due date requirement specified in the announcement supercedes the instructions in the OPHS-1. Applications which do not meet the deadline will be returned to the applicant unread.

Hand-delivered applications must be received by the OPHS Grants Management Office no later than 4:30 p.m. Eastern Standard time on the application due date. Applications delivered to the OPHS Grants Management Office after the deadline described above will not be accepted for review. Applications sent via facsimile or by electronic mail outside the e-Grants system will not be accepted for review. Applications which do not conform to the requirements of this program announcement or which do not meet the applicable parts of 42 CFR part 59, subpart C, will not be accepted for review, and will be returned to the applicant.

4. Intergovernmental Review: Applicants under this announcement are subject to the requirements of Executive Order 132372, “Intergovernmental Review of Federal Programs,” as implemented by CFR part 100, “Intergovernmental Review of Department of Health and Human Services Programs and Activities.” As soon as possible, the applicant should discuss the project with the State Single Point of Contact (SPOC) for the State in which the applicant is located. The application kit contains the currently available listing of the SPOCs that have elected to be informed of the submission of applications. For those States not represented on the listing, further inquiries should be made by the applicant regarding the submission to the relevant SPOC. The SPOC should forward any comments to the OPHS Grants Management Office, 1101 Wootton Parkway, Suite 550, Rockville, Maryland 20852. The SPOC has 60 days from the closing date of this announcement to submit any comments. For further information, contact the OPHS Grants Management Office at (301) 594-0758.

5. Funding Restrictions: The allowability, allocability, reasonableness and necessity of direct and indirect costs that may be charged to OPHS grants are outlined in the following documents: OMB Circular A-21 (Institutions of Higher Education); OMB Circular A-87 (State and Local Governments); OMB Circular A-122 (Nonprofit Organizations); and 45 CFR part 74, appendix E (Hospitals). Copies of the Office of Management and Budget (OMB) Circulars are available on the Internet at http://www.whitehouse.gov/omb/grants/grants_circulars.html.

6. Other Submission Requirements: See Section IV.3.

V. Application Review Information

1. Criteria: Eligible competing grant applications will be assessed according to the following criteria:

Criterion 1: The degree to which the project plan adequately provides for the requirements set forth in 42 CFR 59.205; (25 points)

Criterion 2: The extent to which the proposed male training program promises to fulfill the family planning services delivery needs of the area to be served, as evidenced by the applicant's ability to address:

a. Requirements set out under “Program Requirements/Application Content” of ths announcement;

b. Development of a capability within family planning services projects with a male-services component to provide pre- and in-service training to their own staffs; and

c. Improvement of the family planning/reproductive health skills of personnel in family planning services project that have a male-services component. (Total 25 points);

Criterion 3: The competence of the project staff in relation to the services to be provided, including the applicant's history of male-focused training, research, and/or services to males and the ability to document relevant previous experience and formal linkages with public and private entities that have a specific focus on males. (25 points);

Criterion 4: The administrative and management capability and competence of the applicant. (10 points);

Criterion 5: The extent to which the proposed training program will increase the ability of family planning services projects to deliver services primarily to males with a high percentage of unmet need for family planning services. (10 points); and

Criterion 6: The capacity of the applicant to make rapid and effective use of the training grant, as evidenced by the applicant's ability to implement the training program within 120 days of receiving the grant. (5 points).

2. Review and Selection: Eligible competing grant applications will be reviewed by a multi-disciplinary panel of independent reviewers. Final award decisions will be made by the Deputy Assistant Secretary for Population Affairs (DASPA). In making these decisions, the DASPA will fund one project which will, in her judgement, best promote the purposes of sections 1001 and 1003 of the Act, within the limits of funds available for such a project, and she will take into consideration:

(1) Recommendations of the review panel;

(2) reviews for programmatic and grants management compliance;

(3) the reasonableness of the estimated cost to the government considering the available funding and anticipated results; and

(4) the likelihood that the proposed project will result in the benefits expected.

VI. Award Administration Information

1. Award Notices: The official document notifying an applicant that a project application has been approved for funding is the Notice of Grant Award, signed by the Director of the OPHS Grants Management Office, which specifies to the grantee the amount of money awarded, the purposes of the grant, the length of the project period, and terms and conditions of the grant award. OPA does not release information about individual applications until final funding decisions have been made. When final decisions have been made, applicants will be notified by letter regarding the outcome of their application.

2. Administrative and National Policy Requirements: In accepting this award, the grantee stipulates that the award and any activities thereunder are subject to all provisions of 45 CFR parts 74 and 92, currently in effect or implemented during the period of the grant.

Within 60 days of receiving the Notice of Grant Award, a finalized work plan for year one of the project will be negotiated with the OFP Project Officer. In the succeeding years, the training plan and other training events will be a part of the continuation application. The OFP will identify training priorities for the coming year to the male training program within 60 days of the due date for the continuation application.

The Buy American Act of 1933, as amended (41 U.S.C. 10a-10d), requires that Government agencies give priority to domestic products when making purchasing decisions. Therefore, to the greatest extent practicable, all equipment and products purchased with grant funds should be American-made.

A Notice providing information and guidance regarding the “Government-wide Implementation of the President's Welfare-to-Work Initiative for Federal Grant Programs” was published in the Federal Register on May 16, 1997. This initiative was designated to facilitate and encourage grantees and their sub-recipients to hire welfare recipients and to provide additional needed training and/or mentoring as needed. The text of the notice is available electronically on the OMB home page at http://www.whitehouse.gov/omb.

The HHS Appropriations Act requires that when issuing statements, press releases, requests for proposals, bid solicitations, and other documents describing projects or programs funded in whole or in part with Federal money, grantees shall clearly state the percentage and dollar amount of the total costs of the program or project which will be financed with Federal money and the percentage and dollar amount of the total costs of the project or program that will be financed by non-governmental sources.

3. Reporting: A successful applicant under this notice will submit: (a) Annual progress reports; (b) annual Financial Status Reports; and (c) a final progress report and Financial Status Report. Reporting formats are established in accordance with provisions of the general regulations which apply under 45 CFR parts 74 and 92. Applicants must submit all required reports in a timely manner, in recommended formats (to be provided) and submit a final report on the project, including any information on evaluation results, at the completion of the project period. Agencies receiving $500,000 or more in total Federal funds are required to undergo an annual audit as described in OMB Circular A-133, “Audits of States, Local Governments, and Non-Profit Organizations.”

VII. Other Information

Definitions: For the purposes of this announcement, the following definitions apply:

Application—a request for financial support of a project submitted to the OPHS Grants Management Office on specified forms and in accordance with instructions provided.

Evidence-based—relevant scientific evidence that has undergone comprehensive review and rigorous analysis.

Family planning training—“job-specific skill development, the purpose of which is to promote and improve the delivery of family planning services” (42 CFR 59.202(e)).

Grant—financial assistance in the form of money, awarded by the Federal Government to an eligible recipient (a grantee or recipient is the entity that receives a Federal grant and assumes the legal and financial responsibility and accountability for the awarded funds and performance of activities approved for funding).

Project—those activities described in the grant application and supported under the approved budget.

Regional Training Center—There is one Title X-funded Regional Training Center (RTC) in each Public Health Service Region. Each training center provides general training and technical assistance consultation to Title X service providers in the applicable Region regarding program management; family planning and related preventive health information and education; and clinical services. The training and technical assistance provided is general in nature, and addresses Title X Priorities, Legislative Mandates, Key Issues, and HHS Priorities.

Dated: March 18, 2004.
Alma L. Golden,
Deputy Assistant Secretary for Population Affairs.

[FR Doc. 04-7628 Filed 4-2-04; 8:45 am]

BILLING CODE 4150-34-P